DEPARTMENT OF EDUCATION

National Assessment Governing Board; Meeting

AGENCY: National Assessment Governing Board; Education.

ACTION: Notice of closed teleconference meeting.

SUMMARY: This notice sets forth the schedule and proposed agenda of a forthcoming teleconference meeting of the Executive Committee of the National Assessment Governing Board. This notice also describes the functions of the Board. Notice of this meeting is required under Section 10(a)(2) of the Federal Advisory Committee Act.

Date: January 22, 2001.

Time: 4 p.m., adjournment, approximately, 5 p.m. (closed).

Location: National Assessment Governing Board; 800 North Capitol Street, NW., Suite #825, Washington, DC 20001.

FOR FURTHER INFORMATION CONTACT: Ray Fields, Assistant Director for Policy, National Assessment Governing Board, 800 North Capitol Street, NW., Suite 825, Washington, DC 20002-4233, Telephone: (202) 357-6938.

SUPPLEMENTARY INFORMATION: The National Assessment Governing Board is established under section 412 of the National Education Statistics Act of 1994 (Title IV of the Improving America's Schools Act of 1994) (Pub. L. 103-382).

The Board is established to formulate policy guidelines for the National Assessment of Educational Progress. The Board is responsible for selecting subject areas to be assessed, developing assessment objectives, identifying appropriate achievement goals for each grade and subject tested, and establishing standards and procedures for interstate and national comparisons.

Under Pub. L. 105-78, the National Assessment Governing Board is also granted exclusive authority over developing the Voluntary National Tests pursuant to contact number RJ9753001.

On Monday, January 22, the Executive Committee will hold a closed teleconference meeting from 3 to 5 p.m. to review and discuss the qualifications of individuals to fill two vacant National Assessment Governing Board staff positions. Based upon these discussions, the Executive Committee will approve the hire of the individuals selected to fill the position Assistant Director for Psychometrics and the position Operations Officer. This meeting will relate solely to the internal personal rules and practices of an agency and will disclose information of a personal nature where disclosure would constitute a clearly unwarranted invasion of personal privacy, and, as such, is protected by exemptions (2) and (6) of Section 552b(c) of Title 5 U.S.C.

A summary of the activities of the closed teleconference, and other related matters which are informative to the public and consistent with the policy of the section 5 U.S.C. 552b(c), will be available to the public within 14 days after the meeting. Records are kept of all Board proceedings and are available for public inspection at the U.S. Department of Education, National Assessment Governing Board, Suite 825, 800 North Capitol Street, NW., Washington, DC, from 8:30 a.m. to 5 p.m.

Roy Truby,
Executive Director, National Assessment Governing Board.

[FR Doc. 01-795 Filed 1-10-01; 8:45 am]

BILLING CODE 4001-01-M